DEPARTMENT OF TRANSPORTATION

Federal Aviation Administration

14 CFR Part 39

[Docket No. FAA-2006-24696; Directorate Identifier 2006-NM-038-AD]

RIN 2120-AA64

Airworthiness Directives; Empresa Brasileira de Aeronautica S.A. (EMBRAER) Model EMB-145, -145ER, -145MR, -145LR, -145XR, -145MP, and -145EP Airplanes; and Model EMB-135BJ, -135ER, -135KE, -135KL, and -135LR Airplanes

AGENCY: Federal Aviation Administration (FAA), Department of Transportation (DOT).

ACTION: Supplemental notice of proposed rulemaking (NPRM); reopening of comment period.

SUMMARY: The FAA is revising an earlier NPRM for an airworthiness directive (AD) that applies to certain EMBRAER Model EMB-145, -145ER, -145MR, -145LR, -145XR, -145MP, and -145EP airplanes. The original NPRM would have required replacing the electrical bonding clamps inside the fuel tanks and adjacent areas. The original NPRM resulted from a report of the failure of a fitting clamp of an electrical bonding cable for the fuel tubing. This action revises the original NPRM by adding airplanes to the applicability. We are proposing this supplemental NPRM to prevent loss of bonding protection in the interior of the fuel tanks or adjacent areas, and a consequent potential source of ignition in a fuel tank and possible fire or explosion.

DATES: We must receive comments on this supplemental NPRM by January 2, 2007.

ADDRESSES: Use one of the following addresses to submit comments on this supplemental NPRM.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590.

• Fax: (202) 493-2251.

• Hand Delivery: Room PL-401 on the plaza level of the Nassif Building, 400 Seventh Street SW., Washington, DC, between 9 a.m. and 5 p.m., Monday through Friday, except Federal holidays.

Contact Empresa Brasileira de Aeronautica S.A. (EMBRAER), P.O. Box 343—CEP 12.225, Sao Jose dos Campos—SP, Brazil, for service information identified in this proposed AD.

FOR FURTHER INFORMATION CONTACT: Dan Rodina, Aerospace Engineer, International Branch, ANM-116, Transport Airplane Directorate, FAA, 1601 Lind Avenue, SW., Renton, Washington 98057-3356; telephone (425) 227-2125; fax (425) 227-1149.

SUPPLEMENTARY INFORMATION:

Comments Invited

We invite you to submit any relevant written data, views, or arguments regarding this supplemental NPRM. Send your comments to an address listed in the ADDRESSES section. Include the docket number “Docket No. FAA-2006-24696; Directorate Identifier 2006-NM-038-AD” at the beginning of your comments. We specifically invite comments on the overall regulatory, economic, environmental, and energy aspects of this supplemental NPRM. We will consider all comments received by the closing date and may amend this supplemental NPRM in light of those comments.

We will post all comments submitted, without change, to http://dms.dot.gov, including any personal information you provide. We will also post a report summarizing each substantive verbal contact with FAA personnel concerning this supplemental NPRM. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level in the Nassif Building at the DOT street address stated in ADDRESSES. Comments will be available in the AD docket shortly after the Docket Management System receives them.

Discussion

We proposed to amend 14 CFR part 39 with a notice of proposed rulemaking (NPRM) for an airworthiness directive (AD) (the “original NPRM”). The original NPRM applies to certain EMBRAER Model EMB-145, -145ER, -145MR, -145LR, -145XR, -145MP, and -145EP airplanes. The original NPRM was published in the Federal Register on May 9, 2006 (71 FR 26880). The original NPRM proposed to require replacing the electrical bonding clamps inside the fuel tanks and adjacent areas.

Since we issued the original NPRM, the Agência Nacional de Aviação Civil (ANAC), which is the airworthiness authority for Brazil, notified us that the unsafe condition identified in the original NPRM might exist on EMBRAER Model EMB-135 airplanes, in addition to the airplanes identified in the original NPRM. The ANAC issued Brazilian airworthiness directive 2006-02-03R2, effective October 8, 2006, to address the subject unsafe condition on these airplanes. Brazilian airworthiness directive 2006-02-03R2, which was issued to remove airplanes from the applicability, supersedes Brazilian airworthiness directive 2006-02-03R1, effective June 28, 2006. Brazilian airworthiness directive 2006-02-03R1, which was issued to add new airplanes to the applicability and new requirements, supersedes Brazilian airworthiness directive 2006-02-03, effective February 24, 2006. Brazilian airworthiness directive 2006-02-03 was referenced as the parallel Brazilian airworthiness directive in the original NPRM.

Relevant Service Information

EMBRAER has issued Service Bulletin 145LEG-28-0030, dated April 19, 2006, for Model EMB-135 airplanes. The service bulletin describes procedures for replacing the electrical bonding clamps, having part numbers AN735D4 and AN735D6, and their associated attaching parts, inside the forward fuel tank. The replacement includes measuring the electrical resistance between the tubes joined by the electrical bonding jumper. If the resistance is greater than 200 milliohms, the service bulletin describes repeating the clamp replacement and measuring/adjusting the resistance until the resistance value is 200 milliohms or less. When the resistance is 200 milliohms or less, the service bulletin describes procedures for making the bonding protection inside the forward fuel tank. These procedures are the same as those described in EMBRAER Service Bulletin 145-28-0028, dated November 7, 2005, for Model EMB-145 airplanes, as described in the original NPRM. Accomplishing the actions specified in the service information is intended to adequately address the unsafe condition. The ANAC mandated the service information and issued Brazilian airworthiness directive 2006-02-03R2, effective October 8, 2006, to ensure the continued airworthiness of these airplanes in Brazil.

FAA's Determination and Proposed Requirements of the Supplemental NPRM

The changes discussed above expand the scope of the original NPRM; therefore, we have determined that it is necessary to reopen the comment period to provide additional opportunity for public comment on this supplemental NPRM.

Costs of Compliance

The following table provides the estimated costs for U.S. operators to comply with this proposed AD.

Estimated Costs
Action | Work hours | Average labor rate per hour | Parts | Cost per airplane | Number of U.S.-registered airplanes | Fleet cost
Replacement of bonding clamp (all airplane groups) | 2 | $80 | Between $33 and $87, per kit (depending on kit/airplane group) | Between $193 and $247 (depending on kit/airplane group) | 20 | Between $3,860 and $4,940 (depending on kit/airplane group).

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this supplemental NPRM and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Empresa Brasileira de Aeronautica S.A. (EMBRAER): Docket No. FAA-2006-24696; Directorate Identifier 2006-NM-038-AD.

Comments Due Date

(a) The FAA must receive comments on this AD action by January 2, 2007.

Affected ADs

(b) None.

Applicability

(c) This AD applies to the airplanes identified in Table 1 of this AD, certificated in any category.

Table 1.—Applicability
EMBRAER model— | As identified in—
EMB-145, -145ER, -145MR, -145LR, -145XR, -145MP, and -145EP airplanes | EMBRAER Service Bulletin 145-28-0028, dated November 7, 2005.
EMB-135BJ, -135ER, -135KE, -135KL, and -135LR airplanes | EMBRAER Service Bulletin 145LEG-28-0030, dated April 19, 2006.

Unsafe Condition

(d) This AD results from a report of the failure of a fitting clamp of an electrical bonding cable for the fuel tubing. We are issuing this AD to prevent loss of bonding protection in the interior of the fuel tanks or adjacent areas, and a consequent potential source of ignition in a fuel tank and possible fire or explosion.

Compliance

(e) You are responsible for having the actions required by this AD performed within the compliance times specified, unless the actions have already been done.

Electrical Bonding Clamp Replacement

(f) At the time specified in paragraph (f)(1) or (f)(2) of this AD, as applicable: Replace the electrical bonding clamps having part numbers AN735D6 and AN735D4 inside the forward fuel tank or the ventral, wing stub, and wing fuel tanks, and adjacent areas, as applicable; by accomplishing all actions specified in the Accomplishment Instructions of the applicable service bulletin identified in Table 2 of this AD.

Table 2.—Applicable Service Information
For EMBRAER model— | Use—
EMB-145, -145ER, -145MR, -145LR, -145XR, -145MP, and -145EP airplanes | EMBRAER Service Bulletin 145-28-0028, dated November 7, 2005.
EMB-135BJ, -135ER, -135KE, -135KL, and -135LR airplanes | EMBRAER Service Bulletin 145LEG-28-0030, dated April 19, 2006.

(1) For Model EMB-145, -145ER, -145MR, -145LR, -145XR, -145MP, and -145EP airplanes; and Model EMB-135ER, -135KE, -135KL, and -135LR airplanes: Within 5,000 flight hours after the effective date of this AD.

(2) For Model EMB-135BJ airplanes: Within 4,000 flight hours or 48 calendar months after the effective date of this AD, whichever occurs first.

Alternative Methods of Compliance (AMOCs)

(g)(1) The Manager, International Branch ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(h) Brazilian airworthiness directive 2006-02-03R2, effective October 8, 2006, also addresses the subject of this AD.

Issued in Renton, Washington, on November 20, 2006.
Ali Bahrami,
Manager, Transport Airplane Directorate, Aircraft Certification Service.

[FR Doc. E6-20629 Filed 12-5-06; 8:45 am]

BILLING CODE 4910-13-P